Proclamation 9480 of August 31, 2016

National Childhood Obesity Awareness Month, 2016

By the President of the United States of America

A Proclamation

Childhood obesity has both immediate and long-term effects on a child's health and well-being—it puts our young people at higher risk for health problems in adulthood and it can strain our economy in the years ahead. But collaborative efforts in recent years have helped our Nation make progress and begin to reverse these trends. By fostering environments that support healthy choices and giving families the knowledge and resources they need to make smart decisions, we can move closer toward ensuring all our children grow up healthy. Every September, as children begin the new school year, we recommit to solving the epidemic of childhood obesity within the next generation.

Over the course of my Presidency, we have put forward new programs, policies, and initiatives that put children on a path to a healthy future. At the launch of First Lady Michelle Obama's Let's Move! initiative, I established the first-ever Task Force on Childhood Obesity to develop a national action plan to mobilize the public and private sectors and engage families and communities in an effort to improve the health of our children. Combining comprehensive strategies with common sense, Let's Move! is focused on helping children lead a healthier life during their earliest months and years; providing healthier foods in our schools; ensuring every family has access to healthy, affordable food; and getting children to become more physically active. Everyone has a role to play in ensuring all of our kids grow up healthy, including parents and caregivers, elected officials from all levels of government, schools, health care professionals, faith-based and community-based organizations, and the private sector. For the past 5 years we have welcomed students to the White House from across our Nation to create original and healthy recipes in our annual Healthy Lunchtime Challenge and Kids' “State Dinner.” The First Lady has also invited students to join her in planting and harvesting the White House Kitchen Garden to learn about where their food comes from and experience firsthand how healthy food can be fun and delicious.

Earlier this year, the Food and Drug Administration introduced a modernized Nutrition Facts label—which includes more realistic serving sizes and information on added sugars—to provide families with the accurate information they need to make healthy choices. We know there is a strong connection between what our kids eat and how well they perform in school, too. That is why, in 2010, I signed the bipartisan Healthy, Hunger-Free Kids Act, a law that improves the quality of school meals and snacks for over 50 million students so they have the fuel they need to focus on their education and grow up healthy. A recent study showed that because of the increased availability and variety of fruits and vegetables in school meals, students have been empowered to make healthier choices since these standards were updated. The Act increased the number of students who could get school meals at little or no cost and ensured that any food or beverage marketed to children at school meets specific nutrition standards. It also helped bring about the first major revision of nutrition standards for the Child and Adult Care Food Program since its inception more than 40 years ago.

In addition to improving the nutrition of the food our children eat, we will keep striving to create opportunities for kids to become more physically active. The Physical Activity Guidelines for Americans recommend that kids be active for at least 60 minutes every day, but less than one-third of teenagers have met that goal in recent years. Last year, the Surgeon General called on communities to recognize the importance of exercise by walking more and by improving the walkability of our neighborhoods. Through our “Every Kid in a Park” initiative, we have opened up our National Parks to fourth graders and their families for free, so that children from all backgrounds, parts of the country, and walks of life can get outdoors more easily.

This year, as we observe National Childhood Obesity Awareness Month, let us renew our commitment to giving America's daughters and sons a healthy start in life. Let us continue to encourage parents and caregivers to make nutritious choices and help their children do the same, improve access to healthy and affordable foods in our communities and our schools, and promote active lifestyles. We must each do our part to reduce childhood obesity and empower our children to reach for the brighter, healthier future they deserve.

NOW, THEREFORE, I, BARACK OBAMA, President of the United States of America, by virtue of the authority vested in me by the Constitution and the laws of the United States, do hereby proclaim September 2016 as National Childhood Obesity Awareness Month. I encourage all Americans to learn about and engage in activities that promote healthy eating and greater physical activity by all our Nation's children.

IN WITNESS WHEREOF, I have hereunto set my hand this thirty-first day of August, in the year of our Lord two thousand sixteen, and of the Independence of the United States of America the two hundred and forty-first.

[FR Doc. 2016-21752

Filed 9-7-16; 8:45 am]

Billing code 3295-F6-P